ENVIRONMENTAL PROTECTION AGENCY

40 CFR Parts 9, 122, 123, 124, and 125

[FRL-7009-2]

Reopening of Comment Period for Certain Documents Referenced in the Notice of Data Availability; National Pollutant Discharge Elimination System—Regulations Addressing Cooling Water Intake Structures for New Facilities

AGENCY: Environmental Protection Agency.

ACTION: Reopening of comment period.

SUMMARY: On August 10, 2000, EPA published proposed regulations addressing cooling water intake structures at new facilities in the Federal Register for public review and comment (65 FR 49060). On May 25, 2001, EPA published a Notice of Data Availability in the Federal Register (66 FR 28853) regarding the proposed regulations. The comment period closed on June 25, 2001. This action reopens the comment period for certain documents for an additional 30 days, to August 6, 2001.

DATES: Comments on certain documents and issues related to those documents listed below under SUPPLEMENTARY INFORMATION will be accepted through August 6, 2001.

ADDRESSES: Send written comments to: Cooling Water Intake Structure (New Facilities) Proposed Rule Comment Clerk-W-00-03R, Water Docket, Mail Code 4101, EPA, Ariel Rios Building, 1200 Pennsylvania Ave., N.W., Washington, DC 20460. Comments delivered in person and/or any overnight delivery should be submitted to the Cooling Water Intake Structure (New Facilities) Proposed Rule Comment Clerk-W-00-03R, Water Docket, Room EB 57, 401 M Street, S.W., Washington, D.C. 20460. You may also submit comments electronically to ow-docket@epa.gov. Please submit any references cited in your comments. Please submit an original and three copies of your written comments and enclosures. No facsimiles (faxes) will be accepted. For additional information on how to submit comments, see the SUPPLEMENTARY INFORMATION section below.

FOR FURTHER INFORMATION CONTACT: For additional information, contact Deborah G. Nagle at (202) 260-2656, or Claudio H. Ternieden at (202) 260-6026. The e-mail address for the above contacts is rule.316b@epa.gov.

SUPPLEMENTARY INFORMATION: The Notice of Data Availability presented a summary of the data EPA had received or collected since proposal, an assessment of the relevance of the data to EPA's analysis, some modified technology options suggested by commenters, and an alternative approach suggested by a trade group representing the utility industry.

EPA received a request to extend the comment period for all documents and issues discussed in the Notice of Data Availability. After considering this request and a similar but narrower request, EPA is reopening the comment period for six documents and the issues associated with these documents because certain pages of these documents or their references and attachments were not available for public review at the time the Notice of Data Availability was published in the Federal Register. EPA is also reopening the comment period for two lengthy documents that were available in the docket in an electronic format at the start of the public comment period but were not copied and made available for off-site review until June 1, 2001. The comment period for these documents is 30 days, through August 6, 2001.

If you already submitted comments to EPA in response to the Notice of Data Availability published on May 25, 2001, and wish to submit additional comments per today's reopening, EPA requests that the later set of comments clearly specify whether they supplement or supersede the earlier-filed comments.

In addition to accepting hard-copy written comments, please note that EPA will also accept comments submitted electronically. Electronic comments must be submitted as a Word Perfect 5/6/7/8 or ASCII file and must be submitted to: ow-docket@epa.gov.

EPA is reopening the comment period for the following documents:

• DCN# 2-007 Energy Information Agency, Department of Energy Forms 860A and 860B-1998

• DCN# 2-010 Energy Information Agency, Department of Energy; Utility Data Institute; Form EIA-767 1994, 1997; Selected Tables from UDI Power Statistics

• DCN# 2-017A & All References Memo Re: Ecological Reasons Why Freshwater River and Reservoir Ecosystems Do Not Normally Experience Substantive Impact As a Result of Impingement and Entrainment (April 27, 2001)

• DCN# 2-018B R2 Computation and Interpretation of Biological Statistics of Fish Populations (1975)

• DCN# 2-019A & All References Memo Re: Scientific Literature On Population Modeling (April 27, 2001)

• DCN# 2-025E Fact Sheet for Draft NJPDES Permit Renewal Including Section 316(a) Variance Determination and Section 316(b) “BTA” Decision (June 24,1993)

• DCN# 2-036C Draft Steam Plant Energy Penalty Evaluation (April 20, 2001)

• DCN# 2-041A Methods for Sampling Fish Communities as Part of the National Water Quality Assessment Program (1993)

Dated: June 29, 2001.
Diane C. Regas,
Acting Assistant Administrator for Water.

[FR Doc. 01-16949 Filed 7-5-01; 8:45 am]

BILLING CODE 6560-50-P